DEPARTMENT OF HOUSING AND URBAN DEVELOPMENT

[Docket No. FR-5300-N-01A]

Notice of HUD's Fiscal Year (FY) 2009 Notice of Funding Availability (NOFA) Policy Requirements and General Section to HUD's FY2009 NOFAs for Discretionary Programs; Amendment to Application Submission Requirements and Other Technical Corrections

AGENCY: Office of the Secretary, HUD.

ACTION: Notice of HUD's FY2009 NOFA Policy Requirements and General Section to HUD's FY2009 NOFAs for Discretionary Grant Programs; amendments and technical corrections.

SUMMARY: On December 29, 2008, HUD published its Notice of Fiscal Year (FY) 2009 Notice of Funding Availability (NOFA); Policy Requirements and General Section to HUD's FY2009 NOFAs for Discretionary Programs (General Section). As in years past, HUD's FY2009 General Section provides the policy requirements applicable to all of the NOFAs that HUD will publish in FY2009. The General Section also provides important information regarding the application submission requirements. In the December 29, 2008, General Section, HUD noted that applicants would continue to be required to submit their applications electronically through Grants.gov. Today's publication amends this requirement to provide that application submission requirements will be provided in the individual program NOFAs that HUD will publish throughout FY2009. Today's publication also amends the December 29, 2008, General Section to reflect Executive Order 13502, entitled “Use of Project Labor Agreements for Federal Construction Projects.” Finally, today's publication announces changes in how HUD will notify the public of the issuances of NOFAs and makes minor technical corrections to instructions regarding registration with the Central Contractor Registration (CCR).

FOR FURTHER INFORMATION CONTACT: For further information regarding HUD's FY2009 General Section, contact the Office of Departmental Grants Management and Oversight, Office of Administration, Department of Housing and Urban Development, 451 7th Street, SW., Room 3156, Washington, DC 20410-5000; telephone number 202-708-0667. This is not a toll-free number. Persons with hearing or speech impairments may access this number via TTY by calling the Federal Information Relay Service at 800-877-8339. Questions regarding the submission of applications or specific program requirements should be directed to the agency contacts identified in each program NOFA.

SUPPLEMENTARY INFORMATION: On December 29, 2008, HUD published its FY2009 NOFAs General Section (73 FR 79548). HUD's FY2009 General Section outlines the threshold, civil rights, and other requirements applicable to all of the NOFAs that HUD will publish in FY2009. HUD's General Section also establishes application submission requirements.

I. Amendment to Application Submission Requirements

In the December 29, 2008, General Section, HUD stated that, “HUD would continue to require that applicants submit their applications electronically through Grants.gov” (page 79548). Since publication of the FY2009 General Section, the Office of Management and Budget (OMB) has requested that agencies identify alternative methods of accepting grant applications, in order to ensure that assistance made available through the American Recovery and Reinvestment Act of 2009, (Pub. L. 111-5, enacted February 17, 2009) (the Recovery Act) can be effectively distributed with minimal disruptions. Based on this request, HUD has reviewed the application submission requirements outlined in the FY2009 General Section and has determined it will allow additional methods for applicants to submit applications. Moreover, in order to provide HUD's program offices the maximum flexibility regarding developing alternative methods of accepting grant applications, HUD has determined that application submission requirements will be stated in the individual program NOFAs that HUD will publish throughout FY2009. Potential applicants are, therefore, directed to rely on application submission instructions provided in the program NOFA for which they seek funding for information. Specifically, each program NOFA will establish deadline dates and times and advise whether applicants will be required to submit their applications electronically or in paper form. The NOFA will also establish receipt requirements, should it provide for the submission of paper applications. Accordingly, HUD is amending its FY2009 General Section by removing and reserving Section IV.C., entitled “Receipt Dates and Times,” beginning at page 79565, first column.

Since the establishment of the application submission requirements in each program NOFA is a significant departure from HUD's prior practice, HUD encourages applicants to carefully read the program NOFA for which they intend to apply. Questions regarding the submission of applications may be directed to the agency contacts identified in each program NOFA, with sufficient time to permit receipt of your application by the deadline date established in the NOFA.

II. Amendment To Conform to Recent Executive Order

HUD's FY2009 General Section required compliance with Executive Order 13202, entitled “Preservation of Open Competition and Government Neutrality Towards Government Contractors' Labor Relations on Federal and Federally Funded Construction Projects.” Specifically, section III.C.4.k. at page 79553, third column, provided that, “[c]ompliance with HUD regulations at 24 CFR 5.108 that implement Executive Order 13202 is a condition of receipt of assistance under a HUD program NOFA.”

Since publication of the FY2009 General Section, the President issued Executive Order 13502, entitled “Use of Project Labor Agreements for Federal Construction Projects.” Executive Order 13502 specifically revokes Executive Order 13202. As a result of issuance of this Executive Order, the provision in HUD's regulations at 24 CFR 5.108 is no longer effective, and compliance with these regulations is no longer a condition of assistance. Accordingly, the provision on project labor agreements in the December 29, 2009, General Section is not applicable to HUD's FY2009 funding. HUD is, therefore, amending its FY2009 General Section by removing and reserving section III.C.4.k. at page 79553, third column.

III. Change HUD's Issuance of NOFAs

Since 1989, HUD has notified the public regarding the availability of assistance through the publication of the NOFA in the Federal Register. Section 233 of Division I, Title II of the Omnibus Appropriations Act, 2009 (Pub. L. 111-8, approved March 11, 2009) authorizes HUD, at its discretion, to make its NOFAs available on HUD's official government Web site, http://www.hud.gov, or on other appropriate government Web sites, as determined by HUD. For FY2009, HUD intends to post the complete NOFA on the HUD Web site. For assistance made available through the Recovery Act, HUD will post funding notices at http://www.hud.gov/recovery/. For assistance made available through the Omnibus Appropriations Act, 2009, HUD will post NOFAs at http://www.hud.gov/offices/adm/grants/fundsavail.cfm. HUD will also post a synopsis of all HUD competitive funding opportunities at http://www07.grants.gov/applicants/find_grant_opportunities.jsp, along with a link to the appropriate HUD Web site. In addition, HUD will publish in the Federal Register a brief notice announcing the availability of NOFAs on the HUD Web site. By posting its NOFAs on the HUD Web site, HUD assistance should be available more quickly, and at an Internet location more familiar to the majority of the public.

IV. Technical Corrections Regarding Registering With CCR

Today's publication also makes minor technical amendments to instructions regarding registering with CCR. Since publication of the FY2009 General Section, CCR has changed its log-in procedures from the use of a Trading Partner Identification Number (TPIN) to the use of a USER ID and Password. Additionally, CCR has changed the telephone number and hours of operation of its Assistance Center. These corrections were made to ensure that applicants have updated information when registering with CCR.

Corrections

1. On page 79556, section IV.B.3.e., third column, HUD is correcting this section, to read as follows:

e. Trading Partner Identification Number (TPIN). A TPIN is a password that is used to access the applicant organization's Central Contractor Registration (CCR) data. Organizations that become active in CCR are issued a TPIN (password) to access their record in order to make, or request, any changes or updates to their CCR registration. Because of the sensitivity of this data, CCR recommends that CCR registrants not disclose their TPIN to anyone under any circumstances. CCR is changing from use of a TPIN to use of a USER ID and Password. CCR is notifying registrants of this change one month prior to their current registration expiration date and providing guidance. CCR registrants who are registering for the first time, or who are updating their registration information, will be required to create a USER ID and Password. Please review the User Account Guide and Frequently Asked Questions (FAQs) found at www.ccr.gov.

2. On page 79557, section IV.B.4.b.(2), second column, HUD is correcting the sixth sentence, to read as follows:

If you need assistance with the CCR registration process, you can contact the CCR Assistance Center, Monday-Friday (except for Federal holidays), from 8 a.m. to 4 p.m. eastern time, at 888-227-2423 or 269-961-5757.

Dated: April 7, 2009.
Shaun Donovan,
Secretary.

[FR Doc. E9-8691 Filed 4-15-09; 8:45 am]

BILLING CODE 4210-67-P